Proclamation 9264 of April 30, 2015

National Physical Fitness and Sports Month, 2015

By the President of the United States of America

A Proclamation

Sports are a fundamental part of American culture. They foster our country's competitive drive, help us stay healthy, and teach us what it takes to succeed—not only on the softball diamond or the basketball court, but also in life. Sports and fitness reflect our national character, and they help us unlock our full potential. During National Physical Fitness and Sports Month, we recognize parents, coaches, educators, and all those who instill in our children the importance of regular exercise, and we invite all people to invest in their own well-being by finding a way to be active each day.

Physical fitness is an essential component of a healthy lifestyle. Regular exercise can produce long-term health benefits; it can help prevent chronic diseases, combat obesity, relieve stress, and increase the chances of living longer. By making physical activity part of your daily routine—at least 30 minutes for adults and 60 minutes for children—you can put yourself on the path to better physical and mental health.

This year marks the fifth anniversary of First Lady Michelle Obama's Let's Move! initiative, which has helped increase opportunities for physical activity and inspire Americans of all ages to lead healthy, active lives. To celebrate, the First Lady is challenging everyone to #GimmeFive things they are doing to eat better, be more active, and live more healthfully. To join the fun and find new ways to stay fit, challenge your family, friends, and colleagues to #GimmeFive this month.

Communities all across our country have embraced my Administration's national call to action and encouraged each other to stay active and make smart life choices. The President's Council on Fitness, Sports, and Nutrition is also promoting physical activity to ensure all Americans have the chances they deserve to lead healthy lives. Their I Can Do It, You Can Do It! program is working to empower Americans with disabilities and make certain they have equal opportunities to participate in regular physical activity in their schools and communities. And the Go4Life campaign is helping older Americans, including those with chronic conditions, to be active every day.

By making daily healthy choices, all Americans can strengthen their bodies and minds and build a foundation that supports their greatest aspirations. This month, let us encourage one another to get involved in sports and fitness activities and together, forge a healthier future for ourselves, our loved ones, and our Nation. To learn how you can get involved, visit www.LetsMove.gov and www.Fitness.gov.

NOW, THEREFORE, I, BARACK OBAMA, President of the United States of America, by virtue of the authority vested in me by the Constitution and the laws of the United States, do hereby proclaim May 2015 as National Physical Fitness and Sports Month. I call upon the people of the United States to make daily physical activity, sports participation, and good nutrition a priority in their lives.

IN WITNESS WHEREOF, I have hereunto set my hand this thirtieth day of April, in the year of our Lord two thousand fifteen, and of the Independence of the United States of America the two hundred and thirty-ninth.

[FR Doc. 2015-10658

Filed 5-4-15; 8:45 am]

Billing code 3295-F5